DEPARTMENT OF COMMERCE

National Oceanic and Atmospheric Administration

[I.D. 032404D]

Marine Mammals; Photography Permit Application No. 946-1747

AGENCY: National Marine Fisheries Service (NMFS), National Oceanic and Atmospheric Administration (NOAA), Commerce.

ACTION: Receipt of application.

SUMMARY: Notice is hereby given that Ocean Futures Society, 325 Chapala St., Santa Barbara, CA 93101, has applied in due form for a permit to take gray whales (Eschrichtius robustus) and killer whales (Orcinus orca) for purposes of commercial/educational photography.

DATES: Written, telefaxed, or e-mail comments must be received on or before May 3, 2004.

ADDRESSES: The application and related documents are available for review upon written request or by appointment in the offices listed under the SUPPLEMENTARY INFORMATION heading of this notice.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 946-1747.

FOR FURTHER INFORMATION CONTACT: Amy Sloan or Jill Lewandowski, (301) 713-2289.

SUPPLEMENTARY INFORMATION: The subject permit is requested under the authority of § 104(c)(6) of the Marine Mammal Protection Act of 1972, as amended (16 U.S.C. 1361 et seq.), and the Regulations Governing the Taking and Importing of Marine Mammals (50 CFR part 216). Section 104(c)(6) provides for photography for educational or commercial purposes involving non-endangered and non-threatened marine mammals in the wild. NMFS is currently working on proposed regulations to implement this provision. However, in the meantime, NMFS has received and is processing this request as a “pilot” application for Level B harassment of non-listed and non-depleted marine mammals for photographic purposes.

The applicant proposes to take 100 gray whales and 50 killer whales by Level B harassment during close approaches to obtain above- and below-water still photographs, video footage, and sound recordings of migrating gray whales and encounters of killer whales feeding on gray whales. Activities would occur aboard ship, boat, and helicopter along the Mexican-U.S. border north to the Bering and Chukchi Seas during the periods of April through September 2004 and January through June 2005. The purpose of this project is to educate the public on the state of the health of the oceans consistent with the six-part Ocean Futures Society/KQED-PBS partnership film series (Jean-Michel Cousteau's Ocean Adventures series).

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Documents may be reviewed in the following locations:

Permits, Conservation and Education Division, Office of Protected Resources, NMFS, 1315 East-West Highway, Room 13705, Silver Spring, MD 20910; phone (301) 713-2289; fax (301) 713-0376;

Northwest Region, NMFS, 7600 Sand Point Way NE, BIN C15700, Bldg. 1, Seattle, WA 98115-0700; phone (206) 526-6150; fax (206) 526-6426;

Alaska Region, NMFS, P.O. Box 21668, Juneau, AK 99802-1668; phone (907) 586-7221; fax (907) 586-7249; and

Southwest Region, NMFS, 501 West Ocean Blvd., Suite 4200, Long Beach, CA 90802-4213; phone (562) 980-4001; fax (562) 980-4018.

Dated: March 26, 2004.
Stephen L. Leathery,
Chief, Permits, Conservation and Education Division, Office of Protected Resources, National Marine Fisheries Service.

[FR Doc. 04-7510 Filed 4-1-04; 8:45 am]

BILLING CODE 3510-22-S